DEPARTMENT OF THE INTERIOR

Fish and Wildlife Service

Availability of the Recovery Plan for Five Freshwater Mussels—Cumberland Elktoe (Alasmidonta atropurpurea), Oyster Mussel (Epioblasma capsaeformis), Cumberlandian Combshell (Epioblasma brevidens), Purple Bean Villosa perpurpurea), and Rough Rabbitsfoot (Quadrula cylindrica strigillata)

AGENCY: Fish and Wildlife Service, Interior.

ACTION: Notice of document availability.

SUMMARY: We, the Fish and Wildlife Service, announce the availability of the final recovery plan for five freshwater mussels—Cumberland elktoe (Alasmidonta atropurpurea), oyster mussel (Epioblasma capsaeformis), Cumberlandian combshell (Epioblasma brevidens), purple bean (Villosa perpururea), and rough rabbitsfoot (Quadrula cylindrica strigillata). These species are endemic to the Cumberland and Tennessee River systems in Alabama, Kentucky, Mississippi, Tennessee, and Virginia. Recent research has greatly increased our understanding of the ecology of these species. The recovery plan includes specific recovery objectives and criteria to be met in order to downlist these mussels to threatened status or delist them under the Endangered Species Act of 1973, as amended.

ADDRESSES: Copies of this recovery plan are available by request from Bob Butler, U.S. Fish and Wildlife Service, 160 Zillicoa Street, Asheville, North Carolina 28801 (Telephone 828/258-3939, Ext. 235). Recovery plans that have been approved by the Fish and Wildlife Service are also available on the Internet at http://endangered.fws.gov/recovery.

FOR FURTHER INFORMATION CONTACT: Bob Butler at the address and telephone number given above.

SUPPLEMENTARY INFORMATION:

Background

Restoring endangered or threatened animals or plants to the point where they are again secure, self-sustaining members of their ecosystems is a primary goal of our endangered species program. To help guide the recovery effort, we are working to prepare recovery plans for most of the listed species native to the United States. Recovery plans describe actions considered necessary for the conservation of the species, establish criteria for downlisting or delisting them, and estimate time and cost for implementing the necessary recovery measures.

The Endangered Species Act of 1973, as amended (16 U.S.C. 1531 et seq.). (Act), requires the development of recovery plans for listed species unless such a plan would not promote the conservation of a particular species. Section 4(f) of the Act requires that we provide public notice and an opportunity for public review and comment during recovery plan development. A notice of availability of the agency draft recovery plan for these five mussel species was published in the Federal Register on April 22, 2003 (68 FR 19844). A 60-day comment period was opened with the notice, closing on Monday, June 23, 2003. We received comments from 16 interested parties and from six mussel experts who served as official peer reviewers of the recovery plan. All persons who submitted comments supported the recovery plan and the Service's efforts to recover these species. Comments and information submitted by peer reviewers and other interested parties have been considered in the preparation of this final plan and, where appropriate, incorporated.

These five mussels were listed as endangered species under the Act on January 10, 1997 (62 FR 1647). These species are restricted to the Cumberland River system (Cumberland elktoe), the Tennessee River system (purple bean and rough rabbitsfoot), or to both river systems (oyster mussel and Cumberlandian combshell). They once existed in thousands of stream miles and now survive in only a few relatively small, isolated populations many of questionable long-term viability. These populations are found in Alabama, Kentucky, Mississippi, Tennessee, and Virginia. Currently they occur in the Clinch River (Tennessee and Virginia), Duck River (Tennessee), Nolichucky River (Tennessee), Powell River (Tennessee and Virginia), Bear Creek (Alabama and Mississippi), Beech Creek (Tennessee), Buck Creek (Kentucky), Cooper Creek (Virginia), Indian Creek (Virginia), Marsh Creek (Kentucky), Sinking Creek (Kentucky), Laurel Fork (Kentucky), Big South Fork (Kentucky and Tennessee), and several tributaries in the Big South Fork drainage (Rock Creek, Kentucky; New River, Bone Camp Creek, Crooked Creek, North White Oak Creek, and White Oak Creek, all Tennessee). Habitat alternation continues to be the major threat to the continued existence of these species. The species and their habitats are currently being impacted by excessive sediment bed loads of smaller sediment particles, changes in turbidity, increased suspended solids (primarily resulting from nonpoint-source loading from poor land-use practices and lack of, or maintenance of, best management practices (BMPs)), and pesticides. Other primarily localized impacts include coal mining, gravel mining, reduced water quality below dams, developmental activities, water withdrawal, impoundments, and alien species (e.g., the zebra mussel, Dreissena polymorpha). Their restricted ranges and low population levels also increase their vulnerability to toxic chemical spills and the deleterious effects of genetic isolation.

The objective of this recovery plan is to provide a framework for the recovery of these five species so that protection under the Act is no longer necessary. As recovery criteria are met, the status of the five species will be reviewed, and they will be considered for reclassification to threatened status or for removal from the Federal List of Endangered and Threatened Wildlife and Plants (50 CFR part 17).

Authority: The authority for this action is section 4(f) of the Endangered Species Act, 16 U.S.C. 1533(f).

Dated: September 5, 2003.
Noreen Walsh,
Acting Regional Director, Southeast Region, U.S. Fish and Wildlife Service.

Editorial Note: This document was received in the Office of the Federal Register on May 19, 2004.

[FR Doc. 04-11637 Filed 5-21-04; 8:45 am]

BILLING CODE 4310-55-M